DEPARTMENT OF AGRICULTURE

Food and Nutrition Service

Agency Information Collection Activities: Information Collection; Comment Request—CACFP National Disqualified List

AGENCY: Food and Nutrition Service (FNS), USDA.

ACTION: Notice.

SUMMARY: In accordance with the Paperwork Reduction Act of 1995, this notice invites the general public and public agencies to comment on a proposed information collection. This collection is an extension, without change, of a currently approved collection for maintaining the National Disqualified List of institutions, day care home providers, and individuals that have been terminated or otherwise disqualified from Child and Adult Care Food Program (CACFP) participation. These federal requirements affect eligibility under the CACFP. The State Agencies are required to enter data as institutions and individuals become disqualified from participating in the CACFP. The collection is the result of a FNS web-based system constructed to update and maintain the list of disqualified institutions and individuals so that no State agency or sponsoring organization may approve any entity on the National Disqualified List to ensure the integrity of the Program.

DATES: Written comments must be received on or before July 2, 2019.

ADDRESSES: Comments may be sent to: Sarah Smith-Holmes, Director, Program Monitoring and Operational Support Branch, Child Nutrition Division, Food and Nutrition Service, U.S. Department of Agriculture, 3101 Park Center Drive, Room 630, Alexandria, Virginia 22302 or via phone: (703) 605-3223. Comments may also be submitted via fax to the attention of Sarah Smith-Holmes at (703) 605-4016. Comments will also be accepted through the Federal eRulemaking Portal. Go to http://www.regulations.gov, and follow the online instructions for submitting comments electronically.

All responses to this notice will be summarized and included in the request for Office of Management and Budget (OMB) approval, and will become a matter of public record.

FOR FURTHER INFORMATION CONTACT: Requests for additional information or copies of this information collection should be directed to Sarah Smith-Holmes (703) 605-3223.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: CACFP National Disqualified List.

Form Number: FNS-843 and FNS-844.

OMB Number: 0584-0584.

Expiration Date: 11/30/2019.

Type of Request: Extension, without change, of a currently approved collection.

Abstract: The Food and Nutrition Service administers the Child Nutrition Act of 1966, as amended (42 U.S.C. 1771, et seq.). Section 243(c) of Public Law 106-224, the Agricultural Risk Protection Act of 2000, amended section 17(d)(5) of the Richard B. Russell National School Lunch Act (42 U.S.C. 1766(d)(5)(E)(i) and (ii)) by requiring the Department of Agriculture to maintain a list of institutions, day care home providers, and individuals that have been terminated or otherwise disqualified from Child and Adult Care Food Program participation. The law also requires the Department to make the list available to State agencies for their use in reviewing applications to participate and to sponsoring organizations to ensure that they do not employ as principals any persons who are disqualified from the program. Forms FNS-843 Report of Disqualification from Participation—Institutions and Responsible Principals/Individuals and FNS-844 Report of Disqualification from Participation—Individually Disqualified Responsible Principal/Individual or Day Care Home Provider are used to collect and maintain this data. This statutory mandate has been incorporated into § 226.6(c)(7) of the Program regulations. In addition, the recordkeeping burden associated with maintaining documentation related to institutions and providers terminated for cause at the State agency level is captured under the Information Collection for the CACFP OMB Control Number 0584-0055 Child and Adult Care Food Program, expiration date 2/29/2020. Therefore, there is no recordkeeping burden associated with this collection.

Affected Public: State Agencies.

Estimated Number of Respondents: 56.

Estimated Number of Responses per Respondent: 28.

Estimated Total Annual Responses: 1,568.

Estimate Time per Response: 0.50.

Estimated Total Annual Burden: 784.

Affected public | Instrument | Estimated number of respondents | Number of responses per respondent | Total annual responses | Estimated total hours per response | Estimated total burden
Reporting
State Agencies | FNS 843 | 56 | 6 | 336 | .50 | 168
State Agencies | FNS 844 | 56 | 22 | 1,232 | .50 | 616
Total Estimated Reporting Burden |  | 56 |  | 1,568 |  | 784

Dated: April 29, 2019.
Brandon Lipps,
Administrator, Food and Nutrition Service.

[FR Doc. 2019-09022 Filed 5-2-19; 8:45 am]

BILLING CODE 3410-30-P